DEPARTMENT OF ENERGY

Federal Energy Regulatory Commission

Combined Notice of Filings #1

Take notice that the Commission received the following electric corporate filings:

Docket Numbers: EC21-57-000.

Applicants: Exelon Generation Company, LLC.

Description: Response of Exelon Generation Company, LLC, et al. to April 16, 2021 letter requesting additional information under.

Filed Date: 4/29/21.

Accession Number: 20210429-5376.

Comments Due: 5 p.m. ET 5/13/21.

Take notice that the Commission received the following electric rate filings:

Docket Numbers: ER10-2289-010; ER10-2564-010; ER10-2600-010; EL21-48-000.

Applicants: Tucson Electric Power Company, UNS Electric, Inc., UniSource Energy Development Company.

Description: Response to March 1, 2021 Show Cause Order of Tucson Electric Power Company, et al.

Filed Date: 4/29/21.

Accession Number: 20210429-5379.

Comments Due: 5 p.m. ET 5/20/21.

Docket Numbers: ER17-1821-004.

Applicants: Panda Stonewall LLC.

Description: Compliance filing: Compliance filing in Docket ER17-1821 to be effective 6/15/2017.

Filed Date: 4/30/21.

Accession Number: 20210430-5380.

Comments Due: 5 p.m. ET 5/21/21.

Docket Numbers: ER21-195-002.

Applicants: LS Power Grid California, LLC.

Description: Tariff Amendment: LS Power Grid California Deferral Termination Request to be effective 12/23/2020.

Filed Date: 4/30/21.

Accession Number: 20210430-5122.

Comments Due: 5 p.m. ET 5/21/21.

Docket Numbers: ER21-1351-001.

Applicants: Midcontinent Independent System Operator, Inc., American Transmission Company LLC.

Description: Tariff Amendment: 2021-04-30_SA 2805 ATC-Rock Energy Cooperative Substitute 1st Rev CFA to be effective 5/12/2021.

Filed Date: 4/30/21.

Accession Number: 20210430-5256.

Comments Due: 5 p.m. ET 5/21/21.

Docket Numbers: ER21-1352-001.

Applicants: Public Service Company of Colorado.

Description: Tariff Amendment: 2021-04-30 OATT-Att W-E&P-FormofSvcAgrmt-NSP-Amnd to be effective 6/29/2021.

Filed Date: 4/30/21.

Accession Number: 20210430-5239.

Comments Due: 5 p.m. ET 5/21/21.

Docket Numbers: ER21-1585-001.

Applicants: Public Service Company of Colorado.

Description: Tariff Amendment: 2021-04-30 OATT-Att W-E&P-FormofSvcAgrmt-SPS-Amnd to be effective 6/29/2021.

Filed Date: 4/30/21.

Accession Number: 20210430-5257.

Comments Due: 5 p.m. ET 5/21/21.

Docket Numbers: ER21-1797-000.

Applicants: Midcontinent Independent System Operator, Inc.

Description: § 205(d) Rate Filing: 2021-04-29_Revisions to Rate Schedule 1 to Establish an Evergreen Term to be effective 6/29/2021.

Filed Date: 4/29/21.

Accession Number: 20210429-5248.

Comments Due: 5 p.m. ET 5/20/21.

Docket Numbers: ER21-1798-000.

Applicants: Orange and Rockland Utilities, Inc.

Description: § 205(d) Rate Filing: Filing of Second Revised ESA to be effective 3/31/2021.

Filed Date: 4/30/21.

Accession Number: 20210430-5000.

Comments Due: 5 p.m. ET 5/21/21.

Docket Numbers: ER21-1799-000.

Applicants: Consolidated Edison Company of New York, Inc.

Description: § 205(d) Rate Filing: Amendment PASNY Tariff Separate Site 4-30-2-21 to be effective 5/1/2021.

Filed Date: 4/30/21.

Accession Number: 20210430-5046.

Comments Due: 5 p.m. ET 5/21/21.

Docket Numbers: ER21-1800-000.

Applicants: NorthWestern Corporation.

Description: § 205(d) Rate Filing: RS 37-SD 2nd Rev—Emergency Tie Agreement with East River Electric Power Co-op to be effective 7/1/2021.

Filed Date: 4/30/21.

Accession Number: 20210430-5049.

Comments Due: 5 p.m. ET 5/21/21.

Docket Numbers: ER21-1801-000.

Applicants: Pacific Gas and Electric Company.

Description: § 205(d) Rate Filing: Q1 2021 Quarterly Filing of City and County of San Francisco's WDT SA (SA 275) to be effective 3/31/2021.

Filed Date: 4/30/21.

Accession Number: 20210430-5068.

Comments Due: 5 p.m. ET 5/21/21.

Docket Numbers: ER21-1802-000.

Applicants: PJM Interconnection, L.L.C.

Description: § 205(d) Rate Filing: Rate Component of Enhancements to Stability Limits Process to be effective 6/1/2022.

Filed Date: 4/30/21.

Accession Number: 20210430-5103.

Comments Due: 5 p.m. ET 5/21/21.

Docket Numbers: ER21-1803-000.

Applicants: Southwest Power Pool, Inc.

Description: § 205(d) Rate Filing: 2142R4 Golden Spread Electric Cooperative, Inc. NITSA NOA to be effective 4/1/2021.

Filed Date: 4/30/21.

Accession Number: 20210430-5113.

Comments Due: 5 p.m. ET 5/21/21.

Docket Numbers: ER21-1804-000.

Applicants: New England Power Pool Participants Committee.

Description: § 205(d) Rate Filing: May 2021 Membership Filing to be effective 5/1/2021.

Filed Date: 4/30/21.

Accession Number: 20210430-5117.

Comments Due: 5 p.m. ET 5/21/21.

Docket Numbers: ER21-1805-000.

Applicants: Upper Missouri G. & T. Electric Cooperative, Inc.

Description: § 205(d) Rate Filing: Revised Rate Schedules FERC Nos. 1,2,3,5, and 11 to be effective 6/30/2021.

Filed Date: 4/30/21.

Accession Number: 20210430-5126.

Comments Due: 5 p.m. ET 5/21/21.

Docket Numbers: ER21-1806-000.

Applicants: Southwest Power Pool, Inc.

Description: § 205(d) Rate Filing: Revisions to Clarify Surplus Interconnection Service Timing to be effective 7/1/2021.

Filed Date: 4/30/21.

Accession Number: 20210430-5130.

Comments Due: 5 p.m. ET 5/21/21.

Docket Numbers: ER21-1807-000.

Applicants: Hill Top Energy Center LLC.

Description: Baseline eTariff Filing: Reactive Power Tariff Application to be effective 6/1/2021.

Filed Date: 4/30/21.

Accession Number: 20210430-5193.

Comments Due: 5 p.m. ET 5/21/21.

Docket Numbers: ER21-1808-000.

Applicants: Tri-State Generation and Transmission Association, Inc.

Description: § 205(d) Rate Filing: Rate Schedule FERC No. 319 between Tri-State and Wheat Belt to be effective 2/26/2020.

Filed Date: 4/30/21.

Accession Number: 20210430-5217.

Comments Due: 5 p.m. ET 5/21/21.

Docket Numbers: ER21-1808-001.

Applicants: Tri-State Generation and Transmission Association, Inc.

Description: Tariff Amendment: Amendment to Rate Schedule FERC No. 319 to be effective 5/1/2021.

Filed Date: 4/30/21.

Accession Number: 20210430-5262.

Comments Due: 5 p.m. ET 5/21/21.

Docket Numbers: ER21-1809-000.

Applicants: Tri-State Generation and Transmission Association, Inc.

Description: Tariff Cancellation: Notice of Cancellation of Rate Schedule FERC No. 115 to be effective 2/10/2021.

Filed Date: 4/30/21.

Accession Number: 20210430-5231.

Comments Due: 5 p.m. ET 5/21/21.

Docket Numbers: ER21-1810-000.

Applicants: Marco DM Holdings, L.L.C.

Description: § 205(d) Rate Filing: Change in Seller Category Status to be effective 6/30/2021.

Filed Date: 4/30/21.

Accession Number: 20210430-5258.

Comments Due: 5 p.m. ET 5/21/21.

Docket Numbers: ER21-1811-000.

Applicants: Northern Pass Transmission LLC.

Description: Tariff Cancellation: Northern Pass Transmission LLC Notice of Cancellation to be effective 5/1/2021.

Filed Date: 4/30/21.

Accession Number: 20210430-5260.

Comments Due: 5 p.m. ET 5/21/21.

Docket Numbers: ER21-1812-000.

Applicants: Tampa Electric Company.

Description: Initial rate filing: Rate Schedule No. 103_MorganRD_DaleMabry Interconnection to be effective 8/1/2021.

Filed Date: 4/30/21.

Accession Number: 20210430-5276.

Comments Due: 5 p.m. ET 5/21/21.

Docket Numbers: ER21-1813-000.

Applicants: Yellow Pine Energy Center I, LLC.

Description: Baseline eTariff Filing: Yellow Pine Energy Center I, LLC Application for MBR Authorization to be effective 7/1/2021.

Filed Date: 4/30/21.

Accession Number: 20210430-5283.

Comments Due: 5 p.m. ET 5/21/21.

Docket Numbers: ER21-1814-000.

Applicants: Yellow Pine Energy Center II, LLC.

Description: Baseline eTariff Filing: Yellow Pine Energy Center II, LLC Application for MBR Authorization to be effective 7/1/2021.

Filed Date: 4/30/21.

Accession Number: 20210430-5284.

Comments Due: 5 p.m. ET 5/21/21.

Docket Numbers: ER21-1815-000.

Applicants: Duke Energy Florida, LLC.

Description: § 205(d) Rate Filing: DEF 2021 Annual Filing of Cost Factor Updates to be effective 5/1/2021.

Filed Date: 4/30/21.

Accession Number: 20210430-5303.

Comments Due: 5 p.m. ET 5/21/21.

Docket Numbers: ER21-1816-000.

Applicants: KES Kingsburg, L.P.

Description: Initial rate filing: KES Kingsburg LP RMR Filing to be effective 5/1/2021.

Filed Date: 4/30/21.

Accession Number: 20210430-5351.

Comments Due: 5 p.m. ET 5/21/21.

Docket Numbers: ER21-1817-000.

Applicants: California Power Exchange Corporation.

Description: § 205(d) Rate Filing: Rate Filing for Rate Period 39 to be effective 7/1/2021.

Filed Date: 4/30/21.

Accession Number: 20210430-5353.

Comments Due: 5 p.m. ET 5/21/21.

Docket Numbers: ER21-1818-000.

Applicants: Entergy Louisiana, LLC.

Description: § 205(d) Rate Filing: Iris Solar, LLC, LBA Agreement to be effective 5/1/2021.

Filed Date: 4/30/21.

Accession Number: 20210430-5354.

Comments Due: 5 p.m. ET 5/21/21.

Take notice that the Commission received the following electric securities filings:

Docket Numbers: ES21-42-000.

Applicants: PJM Interconnection, L.L.C.

Description: Application under Section 204 of the Federal Power Act for Authorization to Issue Securities for PJM Interconnection, L.L.C.

Filed Date: 4/29/21.

Accession Number: 20210429-5354.

Comments Due: 5 p.m. ET 5/20/21.

Docket Numbers: ES21-43-000.

Applicants: Tri-State Generation and Transmission Association, Inc.

Description: Application under Section 204 of the Federal Power Act for Authorization to Issue Securities for Tri-State Generation and Transmission Association, Inc.

Filed Date: 4/30/21.

Accession Number: 20210430-5090.

Comments Due: 5 p.m. ET 5/21/21.

Docket Numbers: ES21-44-000.

Applicants: Morongo Transmission LLC.

Description: Application under Section 204 of the Federal Power Act for Authorization to Issue Securities of Morongo Transmission LLC.

Filed Date: 4/30/21.

Accession Number: 20210430-5091.

Comments Due: 5 p.m. ET 5/21/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 30, 2021.
Kimberly D. Bose,
Secretary.

[FR Doc. 2021-09555 Filed 5-5-21; 8:45 am]

BILLING CODE 6717-01-P